DEPARTMENT OF COMMERCE

International Trade Administration

Notice of Postponement for the Asia EDGE Business Development Mission to Southeast Asia

AGENCY: International Trade Administration, U.S. Department of Commerce.

ACTION: Notice.

SUMMARY: The United States Department of Commerce, International Trade Administration (ITA), is announcing the indefinite postponement of the Asia EDGE (Enhancing Development and Growth through Energy) Business Development Mission to Indonesia and Vietnam, with an optional stop to Thailand, which was previously announced in the Federal Register and scheduled for September 16-24, 2021. ITA remains committed to hold the Mission at the soonest possible dates keeping in mind COVID-19 developments.

SUPPLEMENTARY INFORMATION: Notice to postpone the dates and deadlines of the Asia EDGE Business Development Mission to Indonesia and Vietnam published in 86 FR 7705 (February 1, 2021).

Background

The Department of Commerce, International Trade Administration (ITA), is announcing the indefinite postponement of the dates for the executive-led Asia EDGE Business Development Mission which was originally published in 86 FR 7705 (February 1, 2021) and 84 FR 58590 (September 16, 2019). The Asia EDGE Business Development Mission will be indefinitely postponed until new dates can be identified. The Department has been closely monitoring COVID-19 developments and has determined that postponing the mission is necessary to ensure safety, health, and welfare of the participants. When we have determined modified dates for the event, we will inform the public through an updated Federal Register announcement. ITA will assume that previously approved applicants wish to continue to be considered as applicants for the postponed mission unless we are informed otherwise.

Contact Information

John Breidenstine, Regional Senior Commercial Officer, U.S. Embassy Bangkok (Thailand), U.S. Department of Commerce, Phone: 66-2-205-5280, Email: john.breidenstine@trade.gov

Cathy Gibbons, Global Energy Team Lead, U.S. Commercial Service, Westchester (New York), U.S. Department of Commerce, Phone: 1-914-682-6712, Email: cathy.gibbons@trade.gov

Victoria Yue, International Trade Specialist, Office of Energy and Environmental Industries, U.S. Department of Commerce, Phone: 1-202-482-3492, Email: victoria.yue@trade.gov

Charles Ranado, Senior Commercial Officer, U.S. Embassy Hanoi (Vietnam), U.S. Department of Commerce, Phone: 84-24-3850-5199, Email: charles.ranado@trade.gov

David Nufrio, Deputy Director for Southeast Asia, Global Markets Asia, U.S. Department of Commerce, Phone: 1-202-482-5175, Email: david.nufrio@trade.gov

Megan Hyndman, International Trade Specialist, Office of Energy and Environmental Industries, U.S. Department of Commerce, Phone: 1-202-482-4437, Email: megan.hyndman@trade.gov

Paul Taylor, Commercial Officer, U.S. Embassy Jakarta (Indonesia), U.S. Department of Commerce, Phone: 62-815-1080-0475, Email: paul.taylor@trade.gov

Man Cho,
Deputy Director, Office of Energy and Environmental Industries.

[FR Doc. 2021-20028 Filed 9-15-21; 8:45 am]

BILLING CODE 3510-DR-P